DEPARTMENT OF ENERGY

Federal Energy Regulatory Commission

Combined Notice of Filings #1

Take notice that the Commission received the following electric corporate filings:

Docket Numbers: EC22-13-000.

Applicants: Howard Wind LLC.

Description: Supplement to November 3, 2021 Application for Authorization Under Section 203 of the Federal Power Act of Howard Wind LLC.

Filed Date: 12/28/21.

Accession Number: 20211228-5244.

Comment Date: 5 p.m. ET 1/7/22.

Take notice that the Commission received the following electric rate filings:

Docket Numbers: ER10-2488-022.

Applicants: Oasis Power Partners, LLC.

Description: Notice of Non-Material Change in Status of Oasis Power Partners, LLC.

Filed Date: 12/28/21.

Accession Number: 20211228-5148.

Comment Date: 5 p.m. ET 1/18/22.

Docket Numbers: ER15-2013-013; ER19-2250-005.

Applicants: TrailStone Energy Marketing, LLC, Talen Energy Marketing, LLC.

Description: Triennial Market Power Analysis for Southwest Region of Talen Energy Marketing, LLC, et al.

Filed Date: 12/29/21.

Accession Number: 20211229-5173.

Comment Date: 5 p.m. ET 2/28/22.

Docket Numbers: ER17-1370-007; ER16-581-008; ER16-582-008; ER16-2271-007; ER19-828-003; ER20-539-003; ER20-1338-002; ER20-2505-001; ER21-1254-002; ER21-2204-001; ER21-2279-001.

Applicants: Iron Star Wind Project, LLC, ENGIE Power & Gas LLC, Genbright LLC, Triple H Wind Project, LLC, King Plains Wind Project, LLC, East Fork Wind Project, LLC, Solomon Forks Wind Project, LLC, ENGIE Resources LLC, ENGIE Retail, LLC, ENGIE Portfolio Management, LLC, ENGIE Energy Marketing NA, Inc.

Description: Triennial Compliance Filing—Southwest Power Pool Region of the ENGIE Southwest Power Pool MBR Sellers.

Filed Date: 12/28/21.

Accession Number: 20211228-5158.

Comment Date: 5 p.m. ET 2/28/22.

Docket Numbers: ER21-1369-001; ER21-1371-001; ER21-1373-002; ER21-1376-002.

Applicants: Sanborn Solar 1A, LLC, Edwards Solar 1A, LLC, Edwards Sanborn Storage II, LLC, Edwards Sanborn Storage I, LLC.

Description: Notice of Non-Material Change in Status of Edwards Sanborn Storage I, LLC, et al.

Filed Date: 12/28/21.

Accession Number: 20211228-5229.

Comment Date: 5 p.m. ET 1/18/22.

Docket Numbers: ER22-736-000.

Applicants: System Energy Resources, Inc.

Description: § 205(d) Rate Filing: SERI Depreciation Filing to be effective 3/1/2022.

Filed Date: 12/28/21.

Accession Number: 20211228-5140.

Comment Date: 5 p.m. ET 1/25/22.

Docket Numbers: ER22-737-000.

Applicants: American Transmission Systems, Incorporated, PJM Interconnection, L.L.C.

Description: § 205(d) Rate Filing: American Transmission Systems, Incorporated submits tariff filing per 35.13(a)(2)(iii: ATSI Submits Revised IA No. 3993 to be effective 2/28/2022.

Filed Date: 12/29/21.

Accession Number: 20211229-5006.

Comment Date: 5 p.m. ET 1/19/22.

Docket Numbers: ER22-738-000.

Applicants: Jersey Central Power & Light Company, PJM Interconnection, L.L.C.

Description: § 205(d) Rate Filing: Jersey Central Power & Light Company submits tariff filing per 35.13(a)(2)(iii: JCPL Submits IA No. 5944 to be effective 2/28/2022.

Filed Date: 12/29/21.

Accession Number: 20211229-5007.

Comment Date: 5 p.m. ET 1/19/22.

Docket Numbers: ER22-739-000.

Applicants: Jersey Central Power & Light Company, PJM Interconnection, L.L.C.

Description: § 205(d) Rate Filing: Jersey Central Power & Light Company submits tariff filing per 35.13(a)(2)(iii: JCPL Submits IA No. 5945 to be effective 2/28/2022.

Filed Date: 12/29/21.

Accession Number: 20211229-5009.

Comment Date: 5 p.m. ET 1/19/22.

Docket Numbers: ER22-741-000.

Applicants: Orange and Rockland Utilities, Inc., New York Independent System Operator, Inc.

Description: § 205(d) Rate Filing: Orange and Rockland Utilities, Inc. submits tariff filing per 35.13(a)(2)(iii: Joint Section 205 filing of TPIA among NYISO, O&R and Transco SA No. 2663 to be effective 12/15/2021.

Filed Date: 12/29/21.

Accession Number: 20211229-5063.

Comment Date: 5 p.m. ET 1/19/22.

Docket Numbers: ER22-742-000.

Applicants: Alabama Power Company.

Description: § 205(d) Rate Filing: Alligator Creek Solar LGIA Filing to be effective 12/14/2021.

Filed Date: 12/29/21.

Accession Number: 20211229-5089.

Comment Date: 5 p.m. ET 1/19/22.

Docket Numbers: ER22-743-000.

Applicants: Alabama Power Company.

Description: Tariff Amendment: Mitchell County Solar LGIA Termination Filing to be effective 12/29/2021.

Filed Date: 12/29/21.

Accession Number: 20211229-5090.

Comment Date: 5 p.m. ET 1/19/22.

Docket Numbers: ER22-744-000.

Applicants: Tri-State Generation and Transmission Association, Inc.

Description: § 205(d) Rate Filing: Service Agreement No. 902 to be effective 12/22/2020.

Filed Date: 12/29/21.

Accession Number: 20211229-5128.

Comment Date: 5 p.m. ET 1/19/22.

Take notice that the Commission received the following public utility holding company filings:

Docket Numbers: PH22-4-000.

Applicants: Ullico Inc.

Description: Ullico Inc. submits FERC 65-A Exemption Notification.

Filed Date: 12/29/21.

Accession Number: 20211229-5172.

Comment Date: 5 p.m. ET 1/19/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2021.
Debbie-Anne A. Reese,
Deputy Secretary.

[FR Doc. 2021-28550 Filed 1-4-22; 8:45 am]

BILLING CODE 6717-01-P